GENERAL ACCOUNTING OFFICE

Advisory Council on Government Auditing Standards; Notice of Meeting

The Advisory Council on Government Auditing Standards will meet Monday, June 19, 2000, from 8:30 a.m. to 5:00 p.m., and Tuesday, June 20, 2000, from 8:30 a.m. to 11:00 a.m., in room 7C13 of the General Accounting Office building, 441 G Street, NW., Washington, DC.

The Advisory Council on Government Auditing Standards will hold a meeting to discuss issues that may impact government auditing standards. Any interested person may attend the meeting as an observer. Council discussions and reviews are open to the public.

For further information contact: Marcia Buchanan, Assistant Director, Government Auditing Standards, AIMD, 202-512-9321.

Marcia B. Buchanan,
Assistant Director.

[FR Doc. 00-13897 Filed 6-2-00; 8:45 am]

BILLING CODE 1610-02-M